DEPARTMENT OF COMMERCE

National Oceanic and Atmospheric Administration

[I.D. 121500F]

Endangered Species; Permits

AGENCY: National Marine Fisheries Service (NMFS), National Oceanic and Atmospheric Administration (NOAA), Commerce.

ACTION: Receipt of request to modify permit 1093 for scientific research.

SUMMARY: Notice is hereby given of the following action regarding permits for takes of endangered or threatened species for the purposes of scientific research: the NMFS has received an application for modification of existing permit 1093, in due form, from the U.S. Geological Survey (USGS), California Cooperative Fishery Research Unit in Arcata, CA.

DATES: Comments or requests for a public hearing on any of the new applications or modification requests must be received at the appropriate address or fax number no later than 5 p.m. eastern standard time on January 22, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

Protected Species Division, NMFS, 777 Sonoma Avenue, Room 325, Santa Rosa, CA 95404-6528 (707-575-6053).

Documents may also be reviewed by appointment in the Office of Protected Resources, F/PR3, NMFS, 1315 East-West Highway, Silver Spring, MD 20910-3226 (301-713-1401).

FOR FURTHER INFORMATION CONTACT: Dan Logan, Protected Resources Division, Santa Rosa, CA (ph: 707-575-6053, fax: 707-578-3435, e-mail: Dan.Logan@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESUs) are covered in this notice:

Fish

Coho salmon (Oncorhynchus kisutch): threatened Southern Oregon/Northern California Coasts.

Modification Requests Received

The USGS requests a modification to Permit 1093 under the authority of section 10 of the Endangered Species Act of 1973 (ESA) (16 U.S.C. 1531-1543) and the NMFS regulations governing ESA-listed fish and wildlife permits (50 CFR parts 217-227). Permit 1093 authorizes takes of adult and juvenile, threatened, SONCC coho salmon (Oncorhynchus kisutch) associated with defined fish population studies throughout the ESU. The ongoing study consists of five assessment tasks for which ESA-listed fish are taken: (1) Presence/absence, (2) population estimates, (3) spawner surveys, (4) genetic sampling, and (5) habitat quality evaluation. ESA-listed fish are observed or captured, anesthetized, handled, allowed to recover from the anesthetic, and released. Indirect mortalities are also authorized. Modification #1 would increase the authorized annual capture/handle take of adult SONCC coho salmon for the purpose of determining ocean survival rates, rates of straying by adults within the basin, and examine relationships between juvenile size and ocean survival of coho salmon within the SONCC ESU. These data are currently lacking for California. These data are expected to allow managers to make more informed decisions when implementing protective measures for the listed species and to benefit recovery planning for coho salmon in the northern California/southern Oregon ESU, as well as in other ESUs.

Dated: December 15, 2000.
Wanda L. Cain,
Chief, Endangered Species Division, Office of Protected Resources, National Marine Fisheries Service.

[FR Doc. 00-32597 Filed 12-20-00; 8:45 am]

BILLING CODE 3510-22-S